DEPARTMENT OF ENERGY

President's Council of Advisors on Science and Technology (PCAST)

AGENCY: Office of Science, Department of Energy.

ACTION: Notice of open virtual meeting.

SUMMARY: This notice announces an open teleconference meeting of the President's Council of Advisors on Science and Technology (PCAST), and describes the functions of the Council. The Federal Advisory Committee Act (FACA) requires that public notice of these meetings be announced in the Federal Register.

DATES: June 30, 2020; 9:30 a.m. to 5:30 p.m.

ADDRESSES: The meeting will be held virtually. Information to participate can be found on the website closer to the meeting date at https://science.osti.gov/About/PCAST/Meetings.

FOR FURTHER INFORMATION CONTACT: Edward McGinnis, Executive Director, PCAST, 202-456-6076 or PCAST@ostp.eop.gov.

SUPPLEMENTARY INFORMATION: PCAST is an advisory group of the nation's leading scientists and engineers, appointed by the President to augment the science and technology advice available to him from inside the White House, cabinet departments, and other Federal agencies. See the Executive Order at whitehouse.gov. PCAST is consulted about and provides analyses and recommendations concerning a wide range of issues where understandings from the domains of science, technology, and innovation may bear on the policy choices before the President. PCAST is chaired by Dr. Kelvin Droegemeier, Director, Office of Science and Technology Policy, Executive Office of the President, The White House. The Designated Federal Officer is Ed McGinnis, Executive Director. Information about PCAST can be found at: https://science.osti.gov/About/PCAST.

Type of Meeting: Open.

Proposed Schedule and Tentative Agenda: Discussions of the Subcommittee on American Global Leadership in Industries of the Future; Subcommittee on New Models of Engagement for Federal and National Laboratories in the Multi-Sector R&D Enterprise; and Subcommittee on Meeting National Needs for STEM Education and a Diverse, Multi-Sector Workforce.

Public Comments: It is the policy of the PCAST to accept written public comments no longer than 20 pages and to accommodate oral public comments whenever possible. The PCAST expects that public statements presented at its meetings will not be repetitive of previously submitted oral or written statements.

The public comment period for this meeting will take place on June 30, 2020 at a time specified in the meeting agenda. This public comment period is designed only for substantive commentary on PCAST's work, not for business marketing purposes.

Oral Comments: To be considered for the public speaker list at the meeting, interested parties should register to speak at PCAST@ostp.eop.gov, no later than 12:00 p.m., Eastern Time on June 22, 2020. To accommodate as many speakers as possible, the time for public comments will be limited to two (2) minutes per person, with a total public comment period of up to 10 minutes. If more speakers register than there is space available on the agenda, PCAST will select speakers on a first-come, first-served basis from those who applied. Those not able to present oral comments may always file written comments with the committee.

Written Comments: Although written comments are accepted continuously, written comments should be submitted to PCAST@ostp.eop.gov no later than 12:00 p.m., Eastern Time on June 22, 2020 so that the comments may be made available to the PCAST members prior to this meeting for their consideration.

Please note that because PCAST operates under the provisions of FACA, all public comments and/or presentations will be treated as public documents and will be made available for public inspection, including being posted on the PCAST website.

Minutes: Minutes will be available within 45 days by emailing PCAST@ostp.eop.gov.

Signed in Washington, DC, on May 29, 2020.
LaTanya Butler,
Deputy Committee Management Officer.

[FR Doc. 2020-12015 Filed 6-3-20; 8:45 am]

BILLING CODE 6450-01-P